DEPARTMENT OF HOMELAND SECURITY

U.S. Customs and Border Protection

DEPARTMENT OF THE TREASURY

19 CFR Part 24

[USCBP-2019-0032; CBP Dec. No. 19-10]

RIN 1515-AE47

Amendment to Statement Processing and Automated Clearinghouse (ACH); Correction

AGENCY: U.S. Customs and Border Protection, Department of Homeland Security; Department of the Treasury.

ACTION: Interim final rule; correction.

SUMMARY: This document corrects an interim final rule published on September 5, 2019, in the Federal Register, which amended the U.S. Customs and Border Protection (CBP) regulations regarding statement processing and Automated Clearinghouse (ACH) and made certain technical corrections to the CBP regulations. In the September 5, 2019, document, an amendatory instruction cited an incorrect sentence in a paragraph to be amended. This document corrects that error.

DATES: This correction is effective September 23, 2019.

FOR FURTHER INFORMATION CONTACT: Kara Welty, Debt Management Branch, Revenue Division, Office of Finance, 866-530-4172, collectionscapabilityowners@cbp.dhs.gov.

SUPPLEMENTARY INFORMATION:

Background

On September 5, 2019, CBP and the Department of the Treasury published the “Amendment to Statement Processing and Automated Clearinghouse (ACH)” interim final rule in the Federal Register (84 FR 46678), which became effective on September 7, 2019. The interim final rule amended the CBP regulations regarding statement processing and ACH and made certain technical corrections to the CBP regulations. Among the amendments in the interim final rule were instructions that changed the word “Customs” to “CBP” in 19 CFR 24.25(a), but inadvertently cited the wrong sentence. This document corrects that error.

List of Subjects in 19 CFR Part 24

Accounting, Claims, Harbors, Reporting and recordkeeping requirements, Taxes.

Amendments to the Regulations

For the reasons stated above, part 24 of title 19 of the Code of Federal Regulations (19 CFR part 24) is amended as set forth below:

PART 24—CUSTOMS FINANCIAL AND ACCOUNTING PROCEDURE

1. The general authority citation for part 24 continues to read as follows:

Authority: 5 U.S.C. 301; 19 U.S.C. 58a-58c, 66, 1202 (General Note 3(i), Harmonized Tariff Schedule of the United States), 1505, 1520, 1624; 26 U.S.C. 4461, 4462; 31 U.S.C. 3717, 9701; Pub. L. 107-296, 116 Stat. 2135 (6 U.S.C. 1 et seq.).

* * * * *

§ 24.25 [Amended]

2. In § 24.25, in paragraph (a), eighth sentence, remove the word “Customs” and add “CBP” in its place.

Dated: September 16, 2019.
Alice A. Kipel,
Executive Director, Regulations and Rulings, Office of Trade.

[FR Doc. 2019-20339 Filed 9-20-19; 8:45 am]

BILLING CODE 9111-14-P